DEPARTMENT OF COMMERCE

International Trade Administration

[A-570-045]

1-Hydroxyethylidene-1, 1-Diphosphonic Acid From People's Republic of China: Postponement of Preliminary Determination of Antidumping Duty Investigation

AGENCY: Enforcement and Compliance, International Trade Administration, Department of Commerce.

DATES: Effective September 6, 2016.

FOR FURTHER INFORMATION CONTACT: Omar Qureshi or Kenneth Hawkins, AD/CVD Operations, Office V, Enforcement and Compliance, International Trade Administration, U.S. Department of Commerce, 14th Street and Constitution Avenue NW., Washington, DC 20230; telephone: (202) 482-5307, or (202) 482-6491, respectively.

SUPPLEMENTARY INFORMATION:

Postponement of Preliminary Determination

On April 20, 2016, the Department of Commerce (“Department”) initiated an antidumping duty investigation of 1-hydroxyethylidene-1, 1-diphosphonic acid from the People's Republic of China.¹ Section 733(b)(1)(A) of the Tariff Act of 1930, as amended (“the Act”), and 19 CFR 351.205(b)(1) state that the Department will make a preliminary determination no later than 140 days after the date of the initiation (i.e., April 20, 2016). Accordingly, the preliminary determination of this antidumping duty investigation is currently due no later than September 7, 2016.

¹ See 1-Hydroxyethylidene-1, 1-Diphosphonic Acid from the People's Republic of China: Initiation of Less-Than-Fair-Value Investigation, 81 FR 25377 (April 28, 2016).

Sections 733(c)(1)(B)(i) and (ii) of the Act permit the Department to postpone the time limit for the preliminary determination if it concludes that the parties concerned are cooperating and determines that the case is extraordinarily complicated by reason of the number and complexity of the transactions to be investigated or adjustments to be considered, the novelty of the issues presented, or the number of firms whose activities must be investigated, and additional time is necessary to make the preliminary determination. Under this section of the Act, the Department may postpone the preliminary determination until no later than 190 days after the date on which the Department initiated the investigation.

The Department determines that the parties concerned are cooperating and that the case is extraordinarily complicated. Additional time is necessary to issue and analyze supplemental questionnaires and to make a preliminary determination in this investigation.

Therefore, in accordance with section 733(c)(1)(B) of the Act, the Department is postponing the deadline for the preliminary determination by 50 days, to October 27, 2016. In accordance with section 735(a)(1) of the Act, the deadline for the final determination of this investigation will continue to be 75 days after the date of the preliminary determination, unless postponed at a later date.

This notice is issued and published pursuant to section 733(c)(2) of the Act and 19 CFR 351.205(f)(1).²

² We acknowledge that the Department inadvertently did not notify the parties to this investigation of this postponement within the time frame provided in section 733(c)(2) of the Act and 19 CFR 351.205(f)(1).

Dated: August 30, 2016.
Paul Piquado,
Assistant Secretary for Enforcement and Compliance.

[FR Doc. 2016-21331 Filed 9-2-16; 8:45 am]

BILLING CODE 3510-DS-P